DEPARTMENT OF TRANSPORTATION

Federal Aviation Administration

Twenty First Meeting: RTCA Special Committee 217—Aeronautical Databases Joint with EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held September 8-12 2014 from 9:00 a.m. to 5:00 p.m.

ADDRESSES: The meeting will be hosted by EASA Ottoplatz, 1 D-50679 Cologne, Germany.

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of RTCA Special Committee 217—Aeronautical Databases held jointly with EUROCAE WG-44—Aeronautical Databases. The agenda will include the following:

Monday, September 8th

• Opening Plenary Session

• Co-Chairmen's remarks and introductions

• Housekeeping

• Approve minutes from 20th meeting

• Review and approve meeting agenda for 21th meeting

• Schedule and working arrangements for this week

• Review of joint WG-1/WG-2 Action Items

• EASA presentation on DAT rule-making task

• Closing Plenary Schedule

Monday, September 8th through Thursday September 11th

• Working Group One (WG1)—DO-200A/ED-76

• Working Group Two (WG2)—DO-272/DO-276/DO-291

Friday Morning, September 12th

• Closing Plenary Session (9:00 a.m. to Noon)

• Presentation of WG1 and WG2 conclusions

• FRAC release of DO-200A and ED-76 Revision

• Working arrangements for the remaining work

• Review of action items

• Next meetings, dates and locations

• Any other business and Adjourn

Pre-registration for the meeting itself is required, if you have not already done so, please provide your information to Sophie Bousquet, sbousquet@rtca.org.

Persons wishing to present statements or obtain information should contact the person listed in the FOR FURTHER INFORMATION CONTACT section. Members of the public may present a written statement to the committee at any time.

Issued in Washington, DC, on July 18 2014.
Mohannad Dawoud,
Management Analyst, Business Operations Group, ANG-A12, Federal Aviation Administration.

[FR Doc. 2014-17818 Filed 7-28-14; 8:45 am]

BILLING CODE 4910-13-P